DEPARTMENT OF THE INTERIOR

National Park Service

Notice of Availability of Draft Director's Order Concerning Records Management

AGENCY: National Park Service, Interior.

ACTION: Notice of availability.

SUMMARY: The National Park Service (NPS) is converting and update its current system of internal instructions. When these documents contain new policy or procedural requirements that may affect parties outside the NPS, this information is being made available for public review and comment. Draft Director's Order #19 establishes a comprehensive policy to guide the NPS records management program.

DATES: Written comments will be accepted until July 13, 2000.

ADDRESSES: Draft Director's Order #19 is available . Requests for copies and written comments should be sent to Michael Grimes, National Park Service, Washington Administrative Program Center, 1849 C Street, NW, MS 3316, Washington, DC, 20240.

FOR FURTHER INFORMATION CONTACT: Michael Grimes, (202) 208-4333.

SUPPLEMENTARY INFORMATION: The NPS is revising the policies and procedures that direct the management of its records. To accomplish this, the records management policies in NPS-19, Records Management are rescinded. The new policies and procedures will be issued in Director's Order #19, in conformance with the new system of NPS internal guidance documents.

Dated May 30, 2000.
Michael A. Grimes,
Service-wide Records Officer.

[FR Doc. 00-14679 Filed 6-12-00; 8:45 am]

BILLING CODE 4310-70-P